NUCLEAR REGULATORY COMMISSION

Advisory Committee on Reactor Safeguards; Revised Meeting Notice

The Agenda for the 582nd ACRS meeting, scheduled to be held on April 7-9, 2011, has been revised as noted below. Notice of this meeting was previously published in the Federal Register on Wednesday, March 23, 2011 (74 FR 16457-16458).

The discussion on the Commission Paper on Emergency Planning for Small Modular Reactors, scheduled to be held on Thursday, April 7, 2011, between 10:45 a.m. and 12:45 p.m., is being postponed to a future meeting.

On April 7, 2011, from 10:45 a.m. to 12:45 p.m. The Committee will hear presentations by and hold discussions with representatives of the NRC staff regarding the events at the Fukushima Reactor Site in Japan [Note: A portion of this session may be closed to protect information provided in confidence by a foreign source pursuant to 5 U.S.C. 552b (c)(4).]

Further information regarding this meeting can be obtained by contacting Mrs. Ilka Berrios, Cognizant ACRS Staff (Telephone: 301-415-3179, E-mail: Ilka.Berrios@nrc.gov), between the hours of 7:30 a.m. and 4:30 p.m.

Dated: March 29 2011.
Andrew L. Bates,
Advisory Committee Management Officer.

[FR Doc. 2011-7893 Filed 4-1-11; 8:45 am]

BILLING CODE 7590-01-P